NATIONAL AERONAUTICS AND SPACE ADMINISTRATION

[Notice: (14-113)]

NASA Advisory Council; Human Exploration and Operations Committee; Meeting

AGENCY: National Aeronautics and Space Administration.

ACTION: Notice of meeting.

SUMMARY: In accordance with the Federal Advisory Committee Act, Public Law 92-463, as amended, the National Aeronautics and Space Administration (NASA) announces a meeting of the Human Exploration and Operations Committee of the NASA Advisory Council.

DATES: Tuesday, December 2, 2014, 10:00 a.m. to 6:00 p.m.; and Wednesday, December 3, 2014, 8:00 a.m. to 4:30 p.m., Local Time.

ADDRESSES: NASA Headquarters, 300 E Street SW., Room 9H40, Washington, DC 20546.

FOR FURTHER INFORMATION CONTACT: Dr. Bette Siegel, Human Exploration and Operations Mission Directorate, NASA Headquarters, Washington, DC 20546, (202) 358-2245, or bette.siegel@nasa.gov.

SUPPLEMENTARY INFORMATION: The meeting will be open to the public up to the seating capacity of the room. This meeting is also available telephonically and by WebEx. Any interested person may call the USA toll free conference call number 1-888-469-0647 or toll number 1-203-827-7016, pass code 5106584, to participate in this meeting by telephone. The WebEx link is https://nasa.webex.com/, the meeting number is 993 284 327, and the password is December2-3!

The agenda for the meeting includes the following topics:

—Joint Session with Science Committee of the NASA Advisory Council

—Status of the International Space Station Focus on Utilization and International Cooperation

—Status of the NASA Human Exploration Operations Mission Directorate

—Radiation Environment and Countermeasures for Human Exploration to Mars

—NASA Human Exploration and Operations Mission Directorate/NASA Science Mission Directorate Joint Activities

—Evolvable Mars Campaign

—Asteroid Redirect Mission and Sustainable Human Exploration

—Lessons Learned from Commercial Orbital Transportation Services

—Research Subcommittee Briefing

Attendees will be requested to sign a register and to comply with NASA Headquarters security requirements, including the presentation of a valid picture ID before receiving access to NASA Headquarters. Foreign nationals attending this meeting will be required to provide a copy of their passport and visa in addition to providing the following information no less than 10 working days prior to the meeting: full name; gender; date/place of birth; citizenship; passport information (number, country, telephone); visa information (number, type, expiration date); employer/affiliation information (name of institution, address, country, telephone); title/position of attendee, to Dr. Bette Siegel via email at bette.siegel@nasa.gov. To expedite admittance, attendees with U.S. citizenship and Permanent Residents (green card holders) are requested to submit their name and affiliation 3 working days prior to the meeting to Dr. Bette Siegel. It is imperative that the meeting be held on these dates to accommodate the scheduling priorities of the key participants.

Patricia D. Rausch,
Advisory Committee Management Officer, National Aeronautics and Space Administration .

[FR Doc. 2014-26775 Filed 11-12-14; 8:45 am]

BILLING CODE 7510-13-P